NUCLEAR REGULATORY COMMISSION

Sunshine Act Notice

AGENCY HOLDING THE MEETING: Nuclear Regulatory Commission.

DATE: Weeks of July 30, August 6, 13, 20, 27, September 3, 2001.

PLACE: Commissioners' Conference Room, 11555 Rockville Pike, Rockville, Maryland.

STATUS: Public and Closed.

Matters To Be Considered

Week of July 30, 2001

Tuesday, July 31, 2001

1:25 p.m.: Affirmation Session (Public Meeting) (If needed)

Week of August 6, 2001—Tentative

There are no meetings scheduled for the Week of August 6, 2001.

Week of August 13, 2001—Tentative

Tuesday, August 14, 2001

9:30 a.m.: Briefing on NRC International Activities (Public Meeting) (Contact: Elizabeth Doroshuk, 301-415-2775)

Wednesday, August 15, 2001

9:30 a.m.: Briefing on EEO Program (Public Meeting) (Contact: Irene Little, 301-415-7380)

1:25 p.m.: Affirmation Session (Public Meeting) (If needed)

1:30 p.m.: Meeting with Organization of Agreement States (OAS) and Conference of Radiation Control Program Directors (CRCPD) (Public Meeting) (Contact: John Zabko, 301-415-1277)

Week of August 20, 2001-Tentative

There are no meetings scheduled for the Week of August 20, 2001.

Week of August 27, 2001-Tentative

There are no meetings scheduled for the Week of August 27, 2001.

Week of September 3, 2001-Tentative

There are no meetings scheduled for the Week of September 3, 2001.

The schedule for Commission meetings is subject to change on short notice. To verify the status of meetings call (recording)—(301) 415-1292. Contact person for more information: David Louis Gamberoni (301) 415-1651.

Additional Information

By a vote of 4-0 on July 17 and 18, the Commission determined pursuant to U.S.C. 552b(e) and § 9.107(a) of the Commission's rules that “Affirmation of Power Authority of the State of New York Entergy Companies; Applications to Transfer Licenses for Indian Point 3 and Fitzpatrick Nuclear Plants; Procedural Order Announcing Release of Redacted Version of CLI-01-14 and Addressing Parties' Treatment of Confidential Information in CLI-01-14” be held on July 19, and on less than one week's notice to the public.

By a vote of 4-0 on July 18 and 19, the Commission determined pursuant to U.S.C. 552b(e) and § 9.107(a) of the Commission's rules that “Affirmation of Florida Power & Light Company (Commission Review of LBP-01-06)” be held on July 19, and on less than one week's notice to the public.

The NRC Commission Meeting Schedule can be found on the Internet at: http://www.nrc.gov/SECY/smj/schedule.htm

This notice is distributed by mail to several hundred subscribers; if you no longer wish to receive it, or would like to be added to the distribution, please contact the Office of the Secretary, Washington, D.C. 20555 (301-415-1969). In addition, distribution of this meeting notice over the Internet system is available. If you are interested in receiving this Commission meeting schedule electronically, please send an electronic message to dkw@nrc.gov.

Dated: July 26, 2001.
David Louis Gamberoni,
Technical Coordinator, Office of the Secretary.

[FR Doc. 01-19022 Filed 7-26-01; 2:12 pm]

BILLING CODE 7590-01-M